DEPARTMENT OF ENERGY

Federal Energy Regulatory Commission

[Docket No. CP91-1794-003]

CMS Trunkline Gas Company, LLC; Notice of Amendment

June 12, 2002.

Take notice that on June 3, 2002, CMS Trunkline Gas Company, LLC (Trunkline), P. O. Box 4967, Houston, Texas 77210-4967, and Gulf South Pipeline Company, LP (Gulf South) filed in Docket No. CP91-1794-003, a joint application pursuant to Sections 7(b) and 7(c) of the Natural Gas Act (NGA), as amended, and Part 157 of the Federal Energy Regulatory Commission's Regulations (Commission), for authorization for a second amendment of the existing Operating Lease Agreement dated May 11, 1993, all as more fully set forth in the application which is on file with the Commission and open to public inspection. Copies of this filing are on file with the Commission and are available for public inspection. This filing may also be viewed on the web at http://www.ferc.gov using the “RIMS” link, select “Docket #” and follow the instructions (call 202-208-2222 for assistance).

Trunkline requests authority to amend the authorization previously granted in Docket No. CP91-1794-002 in order to implement the Second Amendment (dated May 9, 2002) to the Operating Lease Agreement between Trunkline and Gulf South, and to amend other terms and conditions as necessary. Authorization is also being sought for Gulf South to abandon by lease to Trunkline an additional 25,000 Dth per day of capacity effective October 1, 2002. Trunkline states that under the Second Amendment, the Points of Receipt and Delivery will remain and that no new construction or modification to the existing interconnecting facilities at Olla or Centerville will be required to accommodate the increased quantity. The term of the Operating Lease Agreement will be extended for an additional five years beginning October 1, 2002 and continuing until September 30, 2007.

Any questions concerning this application may be directed to William W. Grygar, Vice President of Rates and Regulatory Affairs, CMS Trunkline Gas Company, LLC, 5444 Westheimer Road, Houston, Texas 77056-5306 at (713) 989-7000, or J. Kyle Stephens, Director of Certificates, Gulf South Pipeline Company, LP, 20 East Greenway Plaza, Suite 900, Houston, Texas 77046, at (713) 544-7309.

There are two ways to become involved in the Commission's review of this project. First, any person wishing to obtain legal status by becoming a party to the proceedings for this project should, on or before July 3, 2002, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

Linwood A. Watson, Jr.,
Deputy Secretary.

[FR Doc. 02-15404 Filed 6-18-02; 8:45 am]

BILLING CODE 6717-01-P